DEPARTMENT OF HOMELAND SECURITY

U.S. Customs and Border Protection

[Docket No. USCBP-2025-0004]

Commercial Customs Operations Advisory Committee

AGENCY: U.S. Customs and Border Protection (CBP), Department of Homeland Security (DHS).

ACTION: Committee Management; notice of open Federal Advisory Committee meeting.

SUMMARY: The Commercial Customs Operations Advisory Committee (COAC) will hold its quarterly meeting on Wednesday, March 5, 2025, in Atlanta, Georgia. The meeting will be open for the public to attend in-person or via webinar. The in-person capacity is limited to 50 persons for public attendees.

DATES: The COAC will meet on Wednesday, March 5, 2025, from 1 p.m. to 5 p.m. Eastern Standard Time (EST). Please note the meeting may close early if the committee has completed its business. Registration to attend in-person and comments must be submitted no later than February 28, 2025.

ADDRESSES: The meeting will be held at the Sam Nunn Building located at 61 Forsyth Street SW, Atlanta, GA 30303 in Conference Rooms B & C. For virtual participants, the webinar information will be posted by 5 p.m. EST on March 4, 2025, at https://www.cbp.gov/trade/stakeholder-engagement/coac. For information or to request special assistance for the meeting, contact Mrs. Latoria Martin, Office of Trade Relations, U.S. Customs and Border Protection, at (202) 344-1440, as soon as possible.

Comments may be submitted by one of the following methods:

• Federal eRulemaking Portal: https://www.regulations.gov. Search for Docket Number USCBP-2025-0004. To submit a comment, click the “Comment” button located on the top-left hand side of the docket page.

• Email: tradeevents@cbp.dhs.gov. Include Docket Number USCBP-2025-0004 in the subject line of the message.

Comments must be submitted in writing no later than February 28, 2025, and must be identified by Docket No. USCBP-2025-0004. All submissions received must also include the words “Department of Homeland Security.” All comments received will be posted without change to https://www.cbp.gov/trade/stakeholder-engagement/coac/coac-public-meetings and www.regulations.gov. Therefore, please refrain from including any personal information you do not wish to be posted. You may wish to view the Privacy and Security Notice, which is available via a link on www.regulations.gov.

FOR FURTHER INFORMATION CONTACT: Mrs. Latoria Martin, Office of Trade Relations, U.S. Customs and Border Protection, 1300 Pennsylvania Avenue NW, Room 3.5A, Washington, DC 20229, (202) 344-1440; or Mr. George Bogden, Designated Federal Officer, at (202) 344-1440 or via email at tradeevents@cbp.dhs.gov.

SUPPLEMENTARY INFORMATION: Notice of this meeting is given under the authority of the Federal Advisory Committee Act, Title 5 U.S.C. ch. 10. The COAC provides advice to the Secretary of the Department of Homeland Security, the Secretary of the Department of the Treasury, and the Commissioner of U.S. Customs and Border Protection (CBP) on matters pertaining to the commercial operations of CBP and related functions within the Department of Homeland Security and the Department of the Treasury.

Pre-Registration: Meeting participants may attend either in person or via webinar. All participants who plan to participate in-person must register using the method indicated below: For members of the public who plan to participate in person, please register via email at tradeevents@cbp.dhs.gov. Include COAC Meeting Registration in the subject line of the message. Please include your first and last name, and company in your request.

For members of the public who plan to participate in person, please register via email at tradeevents@cbp.dhs.gov. Include COAC Meeting Registration in the subject line of the message. Please include your first and last name, and company in your request.

For members of the public who plan to participate via webinar, the webinar information will be posted by 5 p.m. EST on March 4, 2025, at https://www.cbp.gov/trade/stakeholder-engagement/coac. Registration is not required to participate virtually.

The COAC is committed to ensuring all participants have equal access regardless of disability status. If you require a reasonable accommodation due to a disability to fully participate, please contact Mrs. Latoria Martin at (202) 344-1440 as soon as possible.

Please feel free to share this information with other interested members of your organization or association.

To facilitate public participation, we are inviting public comment on the issues the committee will consider prior to the formulation of recommendations as listed in the Agenda section below.

There will be a public comment period after each subcommittee update during the meeting on March 5, 2025. During the meeting, comments may be submitted via the trade events mailbox at tradeevents@cbp.dhs.gov or through the Microsoft Teams chat feature. Please note the public comment period for speakers may end before the time indicated on the schedule that is posted on the CBP web page: https://www.cbp.gov/trade/stakeholder-engagement/coac.

Agenda

The COAC will hear from the current subcommittees on the topics listed below:

1. The Intelligent Enforcement Subcommittee will provide updates on the work completed and topics discussed in its working groups. The Antidumping/Countervailing Duty (AD/CVD) Working Group will provide updates regarding its work and discussions on importer compliance with AD/CVD and other trade remedy measures and requirements. The Intellectual Property Rights (IPR) Process Modernization Working Group will provide updates concerning progress associated with its proposed recommendations specific to IPR enforcement and facilitation. The Forced Labor Working Group (FLWG) will submit proposed recommendations and provide updates on continued discussions regarding trade outreach and clarification of requirements. The FLWG will continue to provide CBP with input, as CBP rolls out a case management portal and a new version of the “Uyghur Forced Labor Prevention Act (UFLPA) U.S. Customs and Border Protection Operational Guidance for Importers”. The Bond Working Group remained on hiatus status since the last public meeting.

2. The Next Generation Facilitation Subcommittee will provide updates on all its existing working groups. The Automated Commercial Environment (ACE) 2.0 Working Group was focused on a discussion on the ACE 2.0 high level roadmap and clarification on some of the proposed capabilities such as blanket entries and correction processes. The Broker Modernization Working Group (BMWG) remains dedicated to the enhancement of the end user experience and improving the administration of the Customs Broker Licensing Exam (CBLE). This quarter, the Modernized Entry Processes Working Group (MEPWG) continues its National Customs Automation Program (NCAP) discussions and will provide updates on its efforts concerning the reconciliation test. The MEPWG will provide updates regarding areas where CBP could provide further guidance on the Broker Cybersecurity Incident Procedures in the form of Frequently Asked Questions. The remaining working group, the Customs Interagency Industry Working Group (CIIWG), was not active this past quarter but will provide a report on topics that the working group will focus on in the coming quarter.

3. The Secure Trade Lanes Subcommittee will provide updates on its seven active working groups: the Centers Working Group, the Cross-Border Recognition Working Group, the De Minimis Working Group, the Export Modernization Working Group, the FTZ/Warehouse Working Group, the Pipeline Working Group, and the Trade Partnership and Engagement Working Group. The proposed recommendations presented by the De Minimis Automation Task Force in the December meeting will be put forward for a vote in the March meeting. These proposed recommendations could not be voted on at the December meeting, due to the lack of quorum for COAC. The Export Modernization Working Group met to discuss the rail Electronic Export Manifest after much anticipation for its release. The Export Modernization Working Group continues the discussion on progressive filing in the export environment. The Drawback Task Force, within the Export Modernization Working Group, met to discuss the general rulings and the drawback desk review process and hopes to submit proposed recommendations this quarter surrounding the streamlining of the manufacturing rulings process. The Centers Working Group continues to meet within the Structure and Operations Sub-Working Groups. The Centers Working Group continues to evaluate previous the recommendations that were put forward and will determine if any additional proposed recommendations may come from that review and with new topics that are discussed within the Sub-Working Groups. The FTZ/Warehouse Working Group continues to review 19 CFR part 146 and intends to have proposed recommendations for review surrounding ACE functionality for the March public meeting. The Pipeline Working Group has not met yet this quarter and will not have any proposed recommendations. The Cross-Border Recognition Working group has not met this quarter and will finalize the evaluation for the Statement of Work to determine next steps.

Meeting materials will be available on February 24, 2025, at: https://www.cbp.gov/trade/stakeholder-engagement/coac/coac-public-meetings.

George Bogden,
Executive Director, Office of Trade Relations.

[FR Doc. 2025-02621 Filed 2-13-25; 8:45 am]

BILLING CODE 9111-14-P